DEPARTMENT OF ENERGY

Federal Energy Regulatory Commission

Combined Notice of Filings #2

Take notice that the Commission received the following electric rate filings:

Docket Numbers: ER19-158-020; ER10-1547-018; ER10-1975-034; ER10-2421-017; ER10-2616-032; ER10-2617-015; ER10-2619-016; ER10-2674-018; ER10-2677-019; ER11-2457-017; ER10-2586-005; ER11-4400-029; ER12-75-020; ER12-192-020; ER12-1769-019; ER12-2251-018; ER12-2253-018; ER13-2475-017; ER14-883-022; ER14-922-011; ER14-924-011; ER14-1569-025; ER14-2245-019; ER15-1596-024; ER15-1598-012; ER15-1599-025; ER15-1600-011; ER15-1602-011; ER15-1605-011; ER15-1607-011; ER19-102-017; ER19-2803-016; ER11-2449-007; ER19-2807-017; ER19-2809-016; ER19-2810-016; ER19-2811-016; ER20-1436-007; ER20-1438-007; ER24-3047-003; ER24-3048-003; ER25-12-003; ER25-202-003.

Applicants: Vision Trading Company LLC, Dynegy Energy Services Mid-Atlantic, LLC, Baldwin Solar BESS LLC, Coffeen Solar BESS LLC, Energy Harbor Nuclear Generation LLC, Energy Harbor LLC, Viridian Energy, LLC, Viridian Energy PA, LLC, Viridian Energy NY, LLC, Energy Rewards, LLC, Connecticut Gas & Electric, Inc., Cincinnati Bell Energy LLC, Luminant Energy Company LLC, Dynegy Washington II, LLC, Dynegy Miami Fort, LLC, Dynegy Hanging Rock II, LLC, Dynegy Fayette II, LLC, Dynegy Energy Services (East), LLC, Dynegy Dicks Creek, LLC, Dynegy Commercial Asset Management, LLC, TriEagle Energy, LP, Dynegy Energy Services, LLC, Illinois Power Resources Generating, LLC, Illinois Power Generating Company, Illinois Power Marketing Company, Kincaid Generation, L.L.C., Public Power & Utility of Maryland, LLC, Public Power & Utility of NY, Inc, Viridian Energy NG, LLC, Liberty Electric Power, LLC, Public Power & Utility, Inc., Dynegy Power Marketing, LLC, Dynegy Midwest Generation, Inc., Massachusetts Gas & Electric, Inc., Pleasants Energy, LLC, Calumet Energy Team, LLC, Dynegy Kendall Energy, LLC, Ontelaunee Power Operating Co., LLC, Dynegy Marketing and Trade, LLC, Energy Services Providers, Inc., North Jersey Energy Associates, L.P., Hopewell Cogeneration Limited Partnership, Ambit Northeast, LLC.

Description: Notice of Non-Material Change in Status of Ambit Northeast, LLC, et al.

Filed Date: 7/31/25.

Accession Number: 20250731-5300.

Comment Date: 5 p.m. ET 8/21/25.

Docket Numbers: ER21-630-005; ER14-2666-009; ER15-1218-018; ER15-2224-007; ER16-38-016; ER16-39-015; ER16-2501-012; ER16-2502-012; ER17-157-009; ER17-1671-006; ER17-1672-005; ER17-2341-013; ER17-2453-012; ER18-713-011; ER18-1775-008; ER20-2888-010; ER23-2294-004; ER24-311-003; ER24-1220-002; ER24-2653-002; ER25-156-003; ER25-741-002; ER25-742-002.

Applicants: Ratts 1 Phase 2 Solar, LLC, Ratts 1 Solar LLC, Peregrine Energy Storage, LLC, 69SV 8me LLC, 68SF 8me LLC, Condor Energy Storage, LLC, Vikings Energy Farm LLC, Townsite Solar, LLC, 64KT 8me LLC, CA Flats Solar 150, LLC, Imperial Valley Solar 3, LLC,CA Flats Solar 130, LLC, Gulf Coast Solar Center III, LLC, Gulf Coast Solar Center II, LLC, Moapa Southern Paiute Solar, LLC, Tropico, LLC, Nicolis, LLC, Kingbird Solar B, LLC, Kingbird Solar A, LLC, Solar Star Colorado III, LLC, Solar Star California XIII, LLC, Avalon Solar Partners, LLC, 325MK 8ME LLC.

Description: Notice of Change in Status of 325MK 8ME LLC, et al.

Filed Date: 7/31/25.

Accession Number: 20250731-5298.

Comment Date: 5 p.m. ET 8/21/25.

Docket Numbers: ER24-1271-005; ER10-1330-016; ER10-1427-017; ER10-2917-032; ER10-2922-032; ER11-2383-029; ER12-161-035; ER12-645-031; ER12-1502-012; ER12-1504-012; ER12-2313-014; ER14-25-026; ER14-1964-024; ER16-141-013; ER16-287-018; ER16-355-010; ER16-2527-009; ER17-2-010; ER17-482-018; ER19-529-024; ER19-1074-024; ER19-1075-024; ER19-2584-001; ER20-1447-014; ER20-1487-008; ER20-1806-009; ER20-2028-009; ER21-2410-001; ER22-192-015; ER22-497-001; ER22-1010-013; ER22-1883-007; ER22-2963-003; ER23-1889-004; ER23-2203-006; ER23-2363-008; ER23-2481-007; ER24-188-002; ER24-443-008; ER24-444-007; ER24-1272-005; ER24-2271-004; ER24-2272-003; ER24-2273-004; ER24-2297-002; ER24-2601-004; ER24-2602-003; ER24-2603-001; ER24-2837-002; ER25-1127-001; ER25-1595-001.

Applicants: Dodson Creek Solar, LLC, Spring Grove Solar II, LLC, Unbridled Solar, LLC, Fayette Solar, LLC, Fillmore County Solar Project, LLC, Louise Solar Project, LLC, Ross County Solar, LLC, Jones Farm Lane Solar, LLC, Egypt Road Solar, LLC, Aspen Road Solar 1, LLC, Foxglove Solar Project, LLC, Deriva Energy Beckjord Storage LLC, Deriva Energy Services, LLC, Wild Springs Solar, LLC, Crystal Hill Solar, LLC, HXOap Solar One, LLC, Wildflower Solar, LLC, Sweetland Wind Farm, LLC, Yellowbud Solar, LLC, Ledyard Windpower, LLC, Terraform IWG Acquisition Holdings II, LLC, NG Renewables Energy Marketing, LLC, Evolugen Trading and Marketing LP, Prairie Wolf Solar, LLC, Bitter Ridge Wind Farm, LLC, Catalyst Old River Hydroelectric Limited Partnership, Frontier Windpower II, LLC, Brookfield Energy Marketing US LLC, Crocker Wind Farm, LLC, Brookfield Renewable Energy Marketing US LLC, Brookfield Energy Marketing Inc., Brookfield Renewable Trading and Marketing LP, BREG Aggregator LLC, Frontier Windpower, LLC, Caprock Solar I LLC, Colonial Eagle Solar, LLC, BIF III Holtwood LLC, Conetoe II Solar, LLC, LSP Safe Harbor Holdings, LLC, Prairie Breeze Wind Energy LLC, Laurel Hill Wind Energy, LLC, Cimarron Windpower II, LLC, Ironwood Windpower, LLC, California Ridge Wind Energy LLC, Bishop Hill Energy LLC, Safe Harbor Water Power Corporation, Hawks Nest Hydro LLC, Brookfield Power Piney & Deep Creek LLC, Brookfield Energy Marketing LP, North Allegheny Wind, LLC, Alton Post Office Solar, LLC.

Description: Notice of Non-Material Change in Status of Alton Post Office Solar, LLC, et al.

Filed Date: 7/31/25.

Accession Number: 20250731-5297.

Comment Date: 5 p.m. ET 8/21/25.

Docket Numbers: ER25-1720-001; ER10-2264-012; ER10-2783-023; ER10-2798-023; ER10-2799-023; ER10-2878-024; ER10-2879-023; ER10-2969-023; ER18-552-008; ER21-2423-012; ER21-2424-012; ER22-46-011; ER22-1402-008; ER22-1404-008; ER22-1449-007; ER22-1450-007; ER22-1662-006; ER22-2713-006.

Applicants: Parkway Generation Sewaren Urban Renewal Entity LLC, GB II New York LLC, GB II New Haven LLC, GB II Connecticut LLC, Parkway Generation Operating LLC, Parkway Generation Keys Energy Center LLC, Parkway Generation Essex, LLC, Generation Bridge M&M Holdings, LLC, Generation Bridge Connecticut Holdings, LLC, Clean Energy Future-Lordstown, LLC, Oswego Harbor Power LLC, Montville Power LLC, Middleton Power LLC, Devon Power LLC, Connecticut Jet Power LLC, Arthur Kill Power LLC, Long Beach Generation LLC, Alpha Generation, LLC.

Description: Notice of Change in Status of Alpha Generation, LLC, et al.

Filed Date: 7/31/25.

Accession Number: 20250731-5299.

Comment Date: 5 p.m. ET 8/21/25.

Docket Numbers: ER25-3097-000.

Applicants: Maine Electric Power Company.

Description: Maine Electric Power Company submits a Notice of Cancellation of the Basic Operating Agreement between MEPCO and Chester SVC Partnership, designated as MEPCO Rate Schedule FERC No. 10.

Filed Date: 8/5/25.

Accession Number: 20250805-5236.

Comment Date: 5 p.m. ET 8/26/25.

Docket Numbers: ER25-3098-000.

Applicants: PJM Interconnection, L.L.C.

Description: Tariff Amendment: Notice of Cancellation ISA/ICSA, SA Nos. 6695/6696; AE2-093/AF1-015 re: withdraw to be effective 10/6/2025.

Filed Date: 8/6/25.

Accession Number: 20250806-5076.

Comment Date: 5 p.m. ET 8/27/25.

Docket Numbers: ER25-3099-000.

Applicants: PJM Interconnection, L.L.C.

Description: Tariff Amendment: Notice of Cancellation of ISA, Service Agreement No. 5934; Queue No. AD1-097 to be effective 10/6/2025.

Filed Date: 8/6/25.

Accession Number: 20250806-5090.

Comment Date: 5 p.m. ET 8/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 6, 2025.
Debbie-Anne A. Reese,
Secretary.

[FR Doc. 2025-15221 Filed 8-8-25; 8:45 am]

BILLING CODE 6717-01-P